DEPARTMENT OF TRANSPORTATION

Federal Highway Administration

Notice of Final Federal Agency Actions on Transportation Project in Washington State

AGENCY: Federal Highway Administration (FHWA), Department of Transportation (DOT).

ACTION: Notice of limitation on claims for judicial review of actions by FHWA.

SUMMARY: This notice announces actions taken by the FHWA that are final. The action relates to refinements to the design of Portage Bay Bridge, Roanoke Lid, and other components in the Portage Bay to I-5 area for SR 520, I-5 to Medina construction in the City of Seattle, King County, State of Washington that are contained in the NEPA Reevaluation signed February 22, 2021 and Revised Section 4(f) Evaluation signed February 18, 2021.

DATES: A claim seeking judicial review of the Federal agency actions on the listed highway project will be barred unless the claim is filed on or before August 19, 2021. If the Federal law that authorizes judicial review of a claim provides a time period of less than 150 days for filing such claim, then that shorter time period still applies.

FOR FURTHER INFORMATION CONTACT: Lindsey Handel, Urban Transportation Engineer, Federal Highway Administration, 711 S. Capitol Way, Suite 501, Olympia, WA 98501-1284, 360-753-9480, or Washington.FHWA@dot.gov; or Margaret Kucharski, Megaprograms Environmental Manager, Washington State Department of Transportation, 999 3rd Ave, Suite 2200, Seattle, WA 98104, 206-770-3500, or Margaret.Kucharski@wsdot.wa.gov.

SUPPLEMENTARY INFORMATION: On September 7, 2011, FHWA published a “Notice of Final Federal Agency Actions on Proposed Highway in Washington” in the Federal Register at 76 FR 55459 for the SR 520, I-5 to Medina: Bridge Replacement and HOV Project. Notice is hereby given that, subsequent to the earlier FHWA notice, FHWA has taken final agency actions within the meaning of 23 U.S.C. 139(l)(1) by issuing a NEPA re-evaluation for the SR 520 SR 520, I-5 to Medina: Bridge Replacement and HOV Project: Portage Bay Bridge to I-5 Design Refinements (hereafter “re-evaluation”). The action(s) by FHWA and the laws under which such actions were taken, are described in the re-evaluation and the associated agency records. That information is available by contacting FHWA at the addresses provided above.

The project proposed to improve safety and mobility for people and goods across Lake Washington by replacing the SR 520 Portage Bay and Evergreen Point bridges and improve existing roadway between Interstate 5 (I-5) in Seattle and Evergreen Point Road in Medina spanning 5.2 miles. The Final Environmental Impact Statement (EIS) for the project was published in January 2011 and the Record of Decision (ROD) was issued in August 2011.

Since issuance of the FHWA ROD, the design of the Portage Bay Bridge, Roanoke Lid, and other components in the Portage Bay to I-5 area have been refined, including changes to the configuration of and connections to Portage Bay Bridge; refinement of the design of the Roanoke Lid; and refinements to the regional shared-use path and local active transportation connections. The re-evaluation considering these refinements was prepared in February 2021. It identifies and documents potential effects associated with the refinement. The re-evaluation also includes a Revised Section 4(f) Evaluation that found there would be de minimis impacts on Interlaken Park and the Roanoke Park Historic District and that construction-phase effects on Roanoke Park would meet the temporary occupancy exception included in 23 CFR 774.13(d). FHWA has also determined that the revised project design would cause the least harm, it includes all possible planning to minimize harm, and that there would be no change to other Section 4(f) findings included in the Final EIS and ROD. This notice only applies to the Re-evaluation signed February 22, 2021 and the associated Revised Section 4(f) Evaluation signed February 18, 2021.

Information about the re-evaluation and associated records are available from FHWA and WSDOT at the addresses provided above and can be found at: https://wsdot.wa.gov/Projects/SR520Bridge/Library/Environmental-Documents. This notice applies to all Federal agency decisions related to the re-evaluation as of the issuance date of this notice and all laws under which such actions were taken, including but not limited to:

1. General: National Environmental Policy Act (NEPA) [42 U.S.C. 4321-4347]; Federal-Aid Highway Act [23 U.S.C. 109].

2. Air: Clean Air Act, as amended [42 U.S.C. 7401-7671(q)].

3. Land: Section 6(f) of the Land and Water Conservation Fund Act of 1965 [16 U.S.C. 4601]; Section 4(f) of the Department of Transportation Act of 1966 [49 U.S.C. 303].

4. Wildlife: Anadromous Fish Conservation Act [16 U.S.C. 757a-757g); Fish and Wildlife Coordination Act [16 U.S.C. 661-667(d)]; Magnuson-Stevens Fishery Conservation and Management Act of 1976, as amended [16 U.S.C. 1801 et seq.].

5. Historic and Cultural Resources: Section 106 of the National Historic Preservation Act of 1966, as amended [16 U.S.C. 470(f) et seq.]; Archaeological and Historic Preservation Act [16 U.S.C. 469-469(c)]; Native American Grave Protection and Repatriation Act (25 U.S.C. 3001-3013).

6. Wetlands and Water Resources: Clean Water Act (Section 404, Section 401, Section 319) [33 U.S.C. 1251-1377]; Coastal Barrier Resources Act [16 U.S.C. 3501-3510]; Coastal Zone Management Act [16 U.S.C. 1451-1465]; Land and Water Conservation Fund (LWCF) [16 U.S.C. 4601-4604]; Safe Drinking Water Act (SDWA) [42 U.S.C. 300(f) -300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(M, 133(b)(11)]; Flood Disaster Protection Act [42 U.S.C. 4001-4128].

7. Navigation: Rivers and Harbors Act of 1899 [33 U.S.C. 403]; General Bridge Act of 1946 [33 U.S.C. 9 and 11].

8. Noise: Federal-Aid Highway Act of 1970, Public Law 91-605 [84 Stat. 1713]; [23 U.S.C. 109(h) & (i)].

9. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

Authority: 23 U.S.C. 139(l)(1), as amended by Moving Ahead for Progress in the 21st Century Act, (PL 112-141, 126 Stat. 405).

Issued on: March 16, 2021.
Daniel M. Mathis,
FHWA Division Administrator, Olympia, WA.

[FR Doc. 2021-05832 Filed 3-19-21; 8:45 am]

BILLING CODE 4910-RY-P